COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List products and services to be furnished by nonprofit agencies employing persons who are blind or have other severe disabilities.

DATES: Effective Date: 9/14/2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 6/15/2009 (74 FR 28221-28222) and 6/19/2009 (74 FR 29187-29189), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7530-00-NIB-0841—Label, Pressure Sensitive Adhesive.

NSN: 7530-00-NIB-0898—Label, Pressure Sensitive Adhesive.

NSN: 7530-00-NIB-0896—Label, Pressure Sensitive Adhesive.

NSN: 7530-00-NIB-0892—Label, Pressure Sensitive Adhesive.

NSN: 7530-00-NIB-0893—Label, Pressure Sensitive Adhesive.

NSN: 7530-00-NIB-0895—Label, Pressure Sensitive Adhesive.

NSN: 7530-00-NIB-0899—Label, Pressure Sensitive Adhesive.

NSN: 7530-00-NIB-0900—Label, Pressure Sensitive Adhesive.

COVERAGE: A-list for the total Government requirement as aggregated by the General Services Administration.

NSN: 7530-00-NIB-0840—Label, Pressure Sensitive Adhesive.

NSN: 7530-00-NIB-0894—Label, Pressure Sensitive Adhesive.

NSN: 7530-00-NIB-0897—Label, Pressure Sensitive Adhesive.

COVERAGE: B-list for the broad Government requirement as aggregated by the General Services Administration.

NPA: North Central Sight Services, Inc., Williamsport, PA.

Contracting Activity: FEDERAL ACQUISITION SERVICE, GSA/FSS OFC SUP CTR—PAPER PRODUCTS, NEW YORK, NY.

NSN: 3990-00-NSH-0075—Pallet, Demo, 24″ x 48″.

NPA: Bona Vista Programs, Inc., Kokomo, IN.

Contracting Activity: DEPT OF THE ARMY, SR W39Z STK REC ACCT-CRANE AAP, Crane, IN.

COVERAGE: C-list for the requirements of the Department of the Army—Crane Ammunition Activity.

NSN: 7520-00-NIB-2033—PEN, RETRACTABLE, BIODEGRADABLE.

NSN: 7520-00-NIB-2034—PEN, RETRACTABLE, BIODEGRADABLE.

NSN: 7520-00-NIB-2035—PEN, RETRACTABLE, BIODEGRADABLE.

NSN: 7520-00-NIB-2036—PEN, RETRACTABLE, BIODEGRADABLE.

NSN: 7520-00-NIB-2037—PEN, RETRACTABLE, BIODEGRADABLE with GRIP.

NSN: 7520-00-NIB-2038—PEN, RETRACTABLE, BIODEGRADABLE with GRIP.

NSN: 7520-00-NIB-2039—PEN, RETRACTABLE, BIODEGRADABLE with GRIP.

NSN: 7520-00-NIB-2040—PEN, RETRACTABLE, BIODEGRADABLE with GRIP.

NPA: West Texas Lighthouse for the Blind, San Angelo, TX.

Contracting Activity: FEDERAL ACQUISITION SERVICE, GSA/FSS OFC SUP CTR —PAPER PRODUCTS, NEW YORK, NY.

COVERAGE: A-list for total Government requirement as aggregated by the General Services Administration.

NSN: 7520-00-NIB-2021—Pencil, Mechanical, .5 MM HB Lead.

NSN: 7520-00-NIB-2022—Pencil, Mechanical, .7 MM HB Lead.

NSN: 7510-00-NIB-0875—Refill, 12 Lead Cartridge, 0.5 mm HB.

NSN: 7510-00-NIB-0876—Refill, 12 Lead Cartridge, 0.7 mm HB.

NPA: San Antonio Lighthouse for the Blind, San Antonio, TX.

Contracting Activity: FEDERAL ACQUISITION SERVICE, GSA/FSS OFC SUP CTR—PAPER PRODUCTS, NEW YORK, NY.

COVERAGE: B-list for the broad Government requirement as aggregated by the General Services Administration.

NSN: 891500NSH0145—Diced Green Peppers.

NSN: 891500NSH0147—Cole Slaw with Carrots.

NSN: 891500NSH0146—Sliced Yellow Onions.

NPA: Employment Solutions, Inc., Lexington, KY.

Contracting Activity: FEDERAL PRISON SYSTEM, LEXINGTON, FMC, LEXINGTON, KY.

COVERAGE: C-list for the total Federal Prison System requirement.

Services

Service Type/Location:

Grounds Maintenance Services, Ellington Field, 14555 Scholl Street, Houston, TX.

NPA: On Our Own Services, Inc., Houston, TX.

Contracting Activity: DEPT OF THE ARMY, XR W6BB ACA PRESIDIO OF MONTEREY, CA.

Service Type/Location:

Laundry Services, Naval Hospital & Dental Clinic, 100 Bresster Blvd, Camp Lejeune, NC.

Dental Clinic, Bldg 4389, Cherry Point, NC.

NPA: Chesapeake Service Systems, Inc., Chesapeake, VA.

Contracting Activity: DEPT OF THE NAVY, FISC, NORFOLK, VA.

Service Type/Location:

Grounds Maintenance.

Coast Guard Island/Yerba Buena Island, Alameda, CA.

Sector San Francisco/Yerba Buena Island, San Francisco, CA.

Senior Officer's Quarters/Yerba Buena Island, San Francisco, CA.

NPA: Rubicon Programs, Inc., Richmond, CA.

Contracting Activity: U.S. COAST GUARD, MLC PACIFIC (VPL), ALAMEDA, CA.

Barry S. Lineback,
Director, Business Operations.

[FR Doc. E9-19493 Filed 8-13-09; 8:45 am]

BILLING CODE 6353-01-P